INTERNATIONAL TRADE COMMISSION

[Investigation No. 337-TA-850]

Certain Electronic Imaging Devices; Corrected Notice of Commission Determination To Reverse the Finding of Violation of Section 337; Termination of the Investigation; Corrected

AGENCY: U.S. International Trade Commission.

ACTION: Correction of Notice of Commission Determination.

SUMMARY: Correction is made in accordance with the amended notice of investigation. The notice of investigation was amended to substitute Huawei Device Co., Ltd. of Shenzhen, China and Huawei Device USA Inc. of Plano, Texas for the Huawei Technologies Co., Ltd. of Shenzhen, China and FutureWei Technologies, Inc. d/b/a Huawei Technologies (USA) of Plano, Texas. 77 FR 55498.

Issued: March 26, 2014.
By order of the Commission.
Lisa R. Barton,
Secretary to the Commission.

[FR Doc. 2014-07149 Filed 3-31-14; 8:45 am]

BILLING CODE 7020-02-P